DEPARTMENT OF HOMELAND SECURITY

Coast Guard

33 CFR Parts 84 and 115

[Docket No. USCG-2012-0306]

RIN 1625-AB86

Navigation and Navigable Waters; Technical, Organizational, and Conforming Amendments; Corrections

AGENCY: Coast Guard, DHS.

ACTION: Correcting amendments.

SUMMARY: This document contains corrections to the final regulations, which were published in the Federal Register of Thursday, June 21, 2012 (77 FR 37305). The regulations related to technical, organizational and conforming amendments in Title 33 of the CFR. The Coast Guard discussed changes to Part 84 and Part 115 in the Preamble of the final rule that were not reflected in the regulatory text.

DATES: These amendments are effective July 20, 2012.

FOR FURTHER INFORMATION CONTACT: If you have questions on this rulemaking, please contact Mr. Leo Huott, CG-REG-2, U.S. Coast Guard, telephone 202-372-1027, email Leo.S.Huott@uscg.mil. If you have questions on viewing or submitting material to the docket, call Ms. Renee V. Wright, Program Manager, Docket Operations, telephone 202-366-9826.

SUPPLEMENTARY INFORMATION:

Background

On June 21, 2012 (77 FR 37305), the Coast Guard published a final rule entitled “Navigation and Navigable Waters; Technical, Organizational, and Conforming Amendments.” Subsequent to the publication of that notice, the Coast Guard discovered that the changes discussed in the Preamble to 33 CFR 84.15 and 33 CFR 115.60 were not included in the regulatory text.

Need for Correction

As published, the final regulations do not capture two changes to Title 33 of the CFR and need to be corrected. In § 84.15, there is a formula for intensity of lights. This formula contains a legend describing the variables which includes an equals sign without a hard return for the definition. This formula instead should include a colon after each letter representation and a hard return following each colon. In § 115.60, the word “construction” is in the heading. The word “construction” should be removed because this section focuses on applications for permits to construct, modify, or replace bridges. Therefore, the word “construction” in the title does not accurately indicate the breadth of the regulation so the word needs to be removed.

List of Subjects

33 CFR Part 84

Navigation (water), Waterways.

33 CFR Part 115

Administrative practice and procedure, Bridges, Reporting and recordkeeping requirements.

Accordingly, 33 CFR part 84 and part 115 are corrected by making the following correcting amendments:

PART 84—ANNEX I: POSITIONING AND TECHNICAL DETAILS OF LIGHTS AND SHAPES

1. The authority citation for part 84 continues to read as follows:

Authority: 33 U.S.C. 2071; Department of Homeland Security Delegation No. 0170.1.

2. Revise § 84.15(a) to read as follows:

§ 84.15 Intensity of lights.

(a) The minimum luminous intensity of lights will be calculated by using the formula:

I=3.43×10⁶ ×T×D² ×K−D

Where

I: Luminous intensity in candelas under service conditions,

T: Threshold factor 2×10⁻⁷ lux,

D: Range of visibility (luminous range) of the light in nautical miles,

K: Atmospheric transmissivity. For prescribed lights the value of K will be 0.8, corresponding to a meteorological visibility of approximately 13 nautical miles.

* * * * *

PART 115—BRIDGE LOCATIONS AND CLEARANCES; ADMINISTRATIVE PROCEDURES

3. The authority citation for part 115 is revised to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633.

4. Revise the section heading in § 115.60 to read as follows:

§ 115.60 Procedures for handling applications for bridge permits.

* * * * *

Dated: July 16, 2012.
Kathryn A. Sinniger,
Chief, Office of Regulations and Administrative Law, U.S. Coast Guard.

[FR Doc. 2012-17686 Filed 7-19-12; 8:45 am]

BILLING CODE 9110-04-P